DEPARTMENT OF THE INTERIOR

Bureau of Land Management

[LLWO220000.L10200000.PH0000.00000000]

Renewal of Approved Information Collection

AGENCY: Bureau of Land Management, Interior.

ACTION: 30-day Notice and Request for Comments.

SUMMARY: The Bureau of Land Management (BLM) has submitted an information collection request to the Office of Management and Budget (OMB) for a 3-year renewal of OMB Control Number 1004-0041 under the Paperwork Reduction Act. This control number covers paperwork requirements approval to continue the collection of information from applicants for grazing permits and leases, and from holders of grazing permits and leases.

DATES: The OMB is required to respond to this information collection request within 60 days but may respond after 30 days. Therefore, written comments should be received on or before July 18, 2011.

ADDRESSES: Please submit comments directly to the Desk Officer for the Department of the Interior (OMB #1004-0041), Office of Management and Budget, Office of Information and Regulatory Affairs, fax 202-395-5806, or by electronic mail at oira_docket@omb.eop.gov. Please provide a copy of your comments to the BLM. You may do so via mail, fax, or electronic mail.

Mail: U.S. Department of the Interior, Bureau of Land Management, 1849 C Street, NW., Room 2134LM, Attention: Jean Sonneman, Washington, DC 20240.

Fax: Jean Sonneman at fax number 202-912-7181.

Electronic mail: jean_sonneman@blm.gov.

FOR FURTHER INFORMATION CONTACT: Kimberly Hackett, Division of Rangeland Resources, at 202-912-7216. Persons who use a telecommunication device for the deaf may call the Federal Information Relay Service at 1-800-877-8339, to leave a message for Ms. Hackett. You may also review the information collection request online at http://www.reginfo.gov/public/do/PRAMain.

SUPPLEMENTARY INFORMATION: The Paperwork Reduction Act (44 U.S.C. 3501-3521) and OMB regulations at 5 CFR part 1320 provide that an agency may not conduct or sponsor a collection of information unless it displays a currently valid OMB control number. Until OMB approves a collection of information, you are not obligated to respond. 44 U.S.C. 3506 and 3507. In order to obtain and renew an OMB control number, Federal agencies are required to seek public comment on information collection and recordkeeping activities (see 5 CFR 1320.8(d) and 1320.12(a)). For this control number, the BLM requests comments on the following subjects:

1. Whether the collection of information is necessary for the proper functioning of the BLM, including whether the information will have practical utility;

2. The accuracy of the BLM's estimate of the burden of collecting the information, including the validity of the methodology and assumptions used;

3. The quality, utility and clarity of the information to be collected; and

4. How to minimize the information collection burden on those who are to respond, including the use of appropriate automated, electronic, mechanical, or other forms of information technology.

Please send comments as directed under ADDRESSES and DATES. Please refer to OMB control number 1004-0041 in your correspondence. Before including your address, phone number, e-mail address, or other personal identifying information in your comment, you should be aware that your entire comment—including your personal identifying information—may be made publicly available at any time. While you can ask us in your comment to withhold your personal identifying information from public review, we cannot guarantee that we will be able to do so.

The following information is provided for the information collection:

Title: Authorizing Grazing Use (43 CFR subparts 4110 and 4130).

Forms:

• Form 4130-1, Grazing Schedule, Grazing Application;

• Form 4130-1a, Grazing Preference Transfer Application and Preference Application (Base Property Preference Attachment and Assignment);

• Form 4130-1b, Grazing Application Supplemental Information;

• Form 4130-3a, Automated Grazing Application;

• Form 4130-4, Application for Exchange-of-Use Grazing Agreement; and

• Form 4130-5, Actual Grazing Use Report.

OMB Control Number: 1004-0041.

Abstract: The Taylor Grazing Act (43 U.S.C. 315-315n) and Subchapters III and IV of the Federal Land Policy and Management Act (43 U.S.C. 1731-1753) authorize the BLM to manage domestic livestock grazing on public lands consistent with land use plans, the principles of multiple use and sustained yield, environmental values, economic considerations, and other relevant factors. In order to meet those goals, it is necessary to collection information on matters such as permittee and lessee qualifications for a grazing permit or lease, base property used in conjunction with public lands, and the actual use made by livestock authorized to graze on the public lands.

Frequency of Collection: The BLM collects the information on Forms 4130-1, 4130-1a, 4130-1b, and 4130-4 on occasion. The BLM collects the information on Forms 4130-3a and 4130-5 annually. Responses are required in order to obtain or retain a benefit.

Estimated Number and Description of Respondents: Any U.S. citizen or validly licensed business may apply for a BLM grazing permit or lease. The BLM administers nearly 18,000 permits and leases for grazing domestic livestock, mostly cattle and sheep, at least part of the year on public lands. Permits and leases generally cover a 10-year period and are renewable if the BLM determines that the terms and conditions of the expiring permit or lease are being met.

Estimated Reporting and Recordkeeping “Hour” Burden: 33,810 responses and 7,811 hours annually. The following table details the individual components and respective hour burdens of this information collection request:

Type of response | Number of responses | Time per response (minutes) | Total hours
A | B | C | (B × C)
Grazing Schedule—Grazing Application | 3,000 | 15 | 750
(43 CFR 4130.1-1)
Form 4130-1
Grazing Preference Application and Preference Transfer Application (Base Property Preference Attachment and Assignment) | 900 | 35 | 525
(43 CFR 4110.1(c), 4110.2-1(c), and 4110.2-3)
Form 4130-1a and related nonform information
Grazing Application Supplemental Information | 900 | 30 | 450
(43 CFR 4110.1 and 4130.7)
Form 4130-1b
Automated Grazing Application | 14,000 | 10 | 2,333
(43 CFR 4130.4)
Form 4130-3a
Application for Exchange-of-Use Grazing Agreement | 10 | 18 | 3
(43 CFR 4130.6-1)
Form 4130-4
Actual Grazing Use Report | 15,000 | 15 | 3,750
(43 CFR 4130.3-2(d))
Form 4130-5
Totals | 33,810 |  | 7,811

Estimated Annual Reporting and Recordkeeping “Non-Hour Cost” Burden: $30,000.

60-Day Notice: As required in 5 CFR 1320.8(d), the BLM published a 60-day notice in the Federal Register on January 25, 2011 (76 FR 4369), soliciting comments from the public and other interested parties. The comment period closed on March 28, 2010. The BLM received one comment. The comment was a general invective about the Federal government, the Department of the Interior, and the BLM. It did not address, and was not germane to, this information collection. Therefore, we have not changed the information collection in response to the comment.

Jean Sonneman,
Bureau of Land Management, Information Collection Clearance Officer.

[FR Doc. 2011-14984 Filed 6-15-11; 8:45 am]

BILLING CODE 4310-84-P